DEPARTMENT OF ENERGY

Federal Energy Regulatory Commission

[Docket No. RP01-497-000]

Mississippi River Transmission Corporation; Notice of Proposed Changes in FERC Gas Tariff

August 8, 2001.

Take notice that on August 1, 2001, Mississippi River Transmission Corporation (MRT) tendered for filing as part of its FERC Gas Tariff, Third Revised Volume No. 1, First Revised Substitute Fourth Revised Sheet No. 2 and Third Revised Sheet No. 251, to be effective on September 1, 2001.

MRT states that the purpose of this filing is to amend its tariff, as suggested by the Commission in its April 12, 2001, Order Denying Clarification and Rehearing in Docket No. CP95-218-004, to include a generic waiver of the “shipper must have title” rule and a general statement that it will only transport for others on offsystem capacity acquired in its own name without pre-approval pursuant to its existing tariff and rates.

MRT states that copies of the filing are being mailed to each of MRT's customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20357 Filed 8-13-01; 8:45 am]

BILLING CODE 6717-01-P